DEPARTMENT OF THE TREASURY

Customs Service

Privacy Act of 1974; System of Records

AGENCY: Customs Service, Treasury.

ACTION: Notice of Proposed Revision to a Privacy Act System of Records Routine Use.

SUMMARY: In accordance with the Privacy Act of 1974, as amended, 5 U.S.C. 552a, the U.S. Customs Service gives notice of an alteration to the system of records, Treasury/Customs .244—Treasury Enforcement Communications System (TECS).

DATES: Comments must be received no later than July 31, 2000. This altered system of records will be effective August 9, 2000, unless comments are received which result in a contrary determination.

ADDRESSES: Comments (preferably in triplicate) may be submitted to the Office of Regulations and Rulings, Disclosure Law Branch, U.S. Customs Service, 1300 Pennsylvania Ave. NW., Washington, DC 20229. Comments will be available for inspection and copying at the Disclosure Law Branch, 1300 Pennsylvania Avenue, NW., Washington, DC.

FOR FURTHER INFORMATION CONTACT: Lee Kramer, Chief Disclosure Law Branch, Office of Regulations and Rulings, U.S. Customs Service, Room 3.4C, Ronald Reagan Building, 1300 Pennsylvania Ave., NW, Washington, DC 20229, (202) 927-1251.

SUPPLEMENTARY INFORMATION: A notice adding a routine use to Treasury/Customs .244—Treasury Enforcement Communications System (TECS) was published on March 25, 1999, at 64 FR 14500. The revision to routine use (6) will clear up any uncertainty caused by the current wording of the routine use and more clearly describe the direct exchange of the information to NCMEC.

The altered system of records report, as required by 5 U.S.C. 552a(r) of the Privacy Act, has been submitted to the Committee on Government Reform in the House of Representatives, the Committee on Governmental Affairs in the Senate, and the Office of Management and Budget, pursuant to Appendix I to OMB Circular A-130, “Federal Agency Responsibilities for Maintaining Records About Individuals,” dated February 8, 1996.

The alteration to routine use (6) found in Treasury/Customs .244—Treasury Enforcement Communications System (TECS) is as follows:

Treasury/Customs .244

System name:

Treasury Enforcement Communications System (TECS)—Treasury/Customs.

* * * * *

Description of change:

Delete the current language of routine use (6) and insert the following:

Routine uses of records maintained in the system, including categories of users and the purposes of such uses:

* * * * *

(6) To provide passenger archive information and other TECS data relevant to the National Center for Missing and Exploited Children (NCMEC) investigation through Department of the Treasury law enforcement officers to personnel of the NCMEC to assist in investigations of missing or exploited children.

* * * * *

Dated: June 22, 2000.
Shelia Y. McCann,
Deputy Assistant Secretary (Administration).

[FR Doc. 00-16533 Filed 6-29-00; 8:45 am]

BILLING CODE 4820-02-P